DEPARTMENT OF THE INTERIOR

Fish and Wildlife Service

50 CFR Part 17

[FWS-R1-ES-2009-0036; MO 92210 50083 B2]

RIN 1018-AV47

Endangered and Threatened Wildlife and Plants; Proposed Endangered Status for Flying Earwig Hawaiian Damselfly (Megalagrion nesiotes) and Pacific Hawaiian Damselfly (M. pacificum) Throughout Their Ranges

AGENCY: Fish and Wildlife Service, Interior.

ACTION: Proposed rule; reopening of comment period.

SUMMARY: We, the U.S. Fish and Wildlife Service (Service), announce the reopening of the public comment period on our July 8, 2009, proposal to list two species of Hawaiian damselflies, the flying earwig Hawaiian damselfly (Megalagrion nesiotes) and the Pacific Hawaiian damselfly (M. pacificum), as endangered under the Endangered Species Act of 1973, as amended (Act) (16 U.S.C. 1531 et seq.).

DATES: The comment period for the proposed rule published July 8, 2009 (74 FR 32490) is reopened. To allow us adequate time to consider and incorporate submitted information into our review, we request that we receive information on or before December 21, 2009.

ADDRESSES: You may submit comments by one of the following methods:

• Federal eRulemaking Portal: http://www.regulations.gov. Follow the instructions for submitting comments.

• U.S. mail or hand-delivery: Public Comments Processing, Attn: FWS-R1-ES-2009-0036, Division of Policy and Directives Management, U.S. Fish and Wildlife Service, 4401 N. Fairfax Drive, Suite 222, Arlington, VA 22203.

We will post all comments on http://www.regulations.gov. This generally means that we will post any personal information you provide us (see the Public Comments section below for more information).

FOR FURTHER INFORMATION CONTACT: Loyal Mehrhoff, Field Supervisor, Pacific Islands Fish and Wildlife Office, 300 Ala Moana Boulevard, Box 50088, Honolulu, HI 96850; telephone 808-792-9400; facsimile 808-792-9581. If you use a telecommunications device for the deaf (TDD), you may call the Federal Information Relay Service (FIRS) at 800-877-8339.

SUPPLEMENTARY INFORMATION:

Public Comments

We reopen the public comment period on our July 8, 2009, proposal (74 FR 32490) to list two species of Hawaiian damselflies: the flying earwig Hawaiian damselfly and the Pacific Hawaiian damselfly, as endangered under the Act (16 U.S.C. 1531 et seq.). Some peer review comments have already been received during the initial comment period on the proposal and may be found at http://www.regulations.gov. In order to allow for additional peer review, we are reopening the comment period for an additional 30 days. Comments previously received on this proposal need not be resubmitted, as they are already incorporated in the public record and will be fully considered in the final determination. We request information from the public, other concerned governmental agencies, the scientific community, industry, or any other interested parties concerning the status of these species. We are seeking information regarding:

(1) Biological, commercial trade, or other relevant data concerning threats (or lack thereof) to these species and regulations that may be addressing those threats;

(2) Additional information concerning the range, distribution, and population sizes of these species, including the locations of any additional populations of these species;

(3) Any information on the biological or ecological requirements of these species;

(4) Current or planned activities in the areas occupied by these species and their possible impacts on these species;

(5) Which physical and biological factors are essential to the conservation of each species and whether those features may require special management considerations or protections;

(6) Which specific areas are essential to the conservation of each species; and

(7) The reasons why any areas should or should not be designated as critical habitat as provided by section 4 of the Endangered Species Act of 1973, as amended (Act) (16 U.S.C. 1531 et seq.), including whether the benefits of designation would outweigh the threats to the species that designation could cause, such that the designation of critical habitat is prudent.

Please note that submissions merely stating support for or opposition to the action under consideration without providing supporting information, although noted, will not be considered in making a determination, as section 4(b)(1)(A) of the Act directs that determinations as to whether any species is a threatened or endangered species must be made “solely on the basis of the best scientific and commercial data available.” Information previously submitted need not be resubmitted as it has already been incorporated into the public record and will be fully considered.

You may submit your comments and materials by one of the methods listed in the ADDRESSES section.

If you submit a comment via http://www.regulations.gov, your entire submission—including any personal identifying information—will be posted on the Web site. If your submission is made via a hard copy that includes personal identifying information, you may request at the top of your document that we withhold this information from public review. However, we cannot guarantee we will be able to do so. We will post all hard copy comments on http://www.regulations.gov. Please include sufficient information with your comments to allow us to verify any scientific or commercial information you include.

Comments and materials we receive, as well as supporting documentation used to prepare this notice, will be available for public inspection at http://www.regulations.gov, or by appointment, during normal business hours, at the U.S. Fish and Wildlife Service, Pacific Islands Fish and Wildlife Office (see the FOR FURTHER INFORMATION CONTACT section).

Background

On July 8, 2009, we published a proposed rule to list two species of Hawaiian damselflies: the flying earwig Hawaiian damselfly and the Pacific Hawaiian damselfly, as endangered under the Act (74 FR 32490). We determined that critical habitat for these two Hawaiian damselflies is prudent but not determinable at this time.

We are reopening the public comment period on this proposed rule in response to a request from the public to provide time for the compilation and submission of additional information relevant to the threat factors affecting these two Hawaiian damselflies. This proposal, if made final, would extend the Act's protection to these species. The Service seeks data and comments from the public on our proposed rule. In order to allow for the public to review these comments and have an opportunity to comment, we are reopening the public comment period for 30 days.

The flying earwig Hawaiian damselfly and the Pacific Hawaiian damselfly are unique insects found only in Hawaii and nowhere else in the world. Historically found on the islands of Hawai`i and Maui, the flying earwig Hawaiian damselfly has not been seen on the island of Hawai`i for over 80 years. Currently, the species is known only from one location on Maui. The primary threats to the flying earwig Hawaiian damselfly are: habitat loss and degradation due to agriculture and urban development, stream modifications, feral pigs, and nonnative plants; natural catastrophes such as hurricanes and landslides; predation by nonnative insects and bullfrogs; and the demographic and genetic consequences of small population size.

The Pacific Hawaiian damselfly was historically found on all of the main Hawaiian Islands except Kaho`olawe and Ni`ihau. This species is found at lower elevations and breeds predominantly in standing water such as marshes, ponds, and pools along stream channels. Currently, the Pacific Hawaiian damselfly is known only from the islands of Hawai`i, Maui and Moloka`i. The primary threats to the Pacific Hawaiian damselfly are: habitat loss and modification by agriculture and urban development, stream modifications, and nonnative plants; natural catastrophes such as hurricanes, drought, and landslides; and predation by nonnative fish, insects, and bullfrogs.

We are seeking public comment on our proposal to list the flying earwig Hawaiian damselfly and the Pacific Hawaiian damselfly as endangered. If we finalize this rule as proposed, it would extend the Act's protections to these species.

References Cited

A complete list of all references cited in the proposed rule is available on the Internet at http://www.regulations.gov or by contacting the Pacific Islands Fish and Wildlife Office (see the FOR FURTHER INFORMATION CONTACT section).

Authors

The primary authors of this notice are the staff members of the Pacific Islands Fish and Wildlife Office.

Authority

The authority for this action is the Endangered Species Act of 1973, as amended (16 U.S.C. 1531 et seq.).

Dated: November 10, 2009.
Gary Frazer,
Acting Director, U.S. Fish and Wildlife Service.

[FR Doc. E9-27797 Filed 11-18-09; 8:45 am]

BILLING CODE 4310-55-P